DEPARTMENT OF COMMERCE

International Trade Administration

Notice of Opportunity To Apply for Federal Recognition of, or Federal Participation in, Upcoming International Expositions

AGENCY: Office of the Trade Promotion Coordinating Committee, International Trade Administration, Department of Commerce.

SUMMARY: The Department of Commerce, Office of the Trade Promotion Coordinating Committee, is publishing this notice to inform the public of the upcoming schedule of International Expositions overseen by the Bureau of International Expositions (BIE), including when the BIE may accept applications from the United States Government on behalf of U.S.-based candidates; and to inform the public of the rules for applying for United States Government recognition of, or participation in, International Expositions proposed to be held in the United States.

ADDRESSES: Applications to receive Federal recognition of, or Federal participation in, an International Exposition proposed to be held in the United States should be submitted to the Office of the Trade Promotion Coordinating Committee, International Trade Administration, U.S. Department of Commerce, Room 31027, Washington, DC 20230.

FOR FURTHER INFORMATION CONTACT: Patrick Kirwan, Director, Office of the Trade Promotion Coordinating Committee, International Trade Administration, Department of Commerce, by telephone at (202) 482-5455 (this is not a toll-free number) or email at Patrick.Kirwan@trade.gov.

SUPPLEMENTARY INFORMATION: Since May 10, 2017, the United States has been a member of the BIE. The United States rejoined the BIE consistent with the U.S. Wants to Compete for a World Expo Act (22 U.S.C. 2452b, 131 Stat. 843, Pub. L. 115-32). The BIE is a Paris-based intergovernmental organization created in 1928 by the Convention Relating to International Exhibitions (Convention) that oversees and regulates International Expositions that last more than three weeks and are of a noncommercial nature (Expos). The BIE selects the host sites for future Expos; provides candidates and host countries with its expertise in event management, national branding and public diplomacy; regulates the organization of the event; and ensures that the host country and all participants respect the Convention and BIE rules, as well as the guidelines established for each Expo.

Under the BIE, Expos are global events organized and facilitated by governments that serve to educate the public, share innovation, promote progress, and foster cooperation. The BIE oversees four types of Expos: World Expos (also known as registered exhibitions), Specialized Expos (also known as recognized exhibitions), Horticultural Expos, and the Triennale di Milano.

The BIE accepts World Expo applications starting up to nine years before, and as late as six years before, the proposed opening date of the World Expo. For Specialized Expos, the BIE accepts applications starting up to six years before, and as late as five years before, the proposed opening date of the Specialized Expo. Accordingly, the BIE will accept applications for a World Expo to be held in 2030 (“the 2030 World Expo”) and for a Specialized Expo to be held in 2027/2028 (“the 2027/2028 Specialized Expo”) starting on January 1, 2021. Potential hosts could campaign for both Expos simultaneously. The BIE requires there to be at least 15 years between any two Expos organized in the same country.

After one country has submitted an application for a particular World Expo or Specialized Expo, any other government wishing to organize an Expo for the same period has six months to submit its own application to the BIE. The BIE's rules provide that, at the end of the six-month period following the submission of the first application for a particular Expo, all candidates must present a full bid dossier based on specifications to be defined by the BIE. BIE Enquiry Missions will use these bid dossiers as the basis for their work in evaluating candidate countries. The Enquiry Missions will assess the feasibility and viability of the proposed Expo, the political and social climate of the candidate city and country, and the support of the government for the Expo. They also will consider the proposed theme of the Expo; the Expo's date, duration, and location; the area of the Expo site; the number of expected visitors; the proposed measures to ensure financial feasibility and financial guarantees; the indicators that will allow the evaluation of the participation costs for countries and the proposed financial and material provisions to minimize this cost; the attitude of relevant authorities and interested parties; citizens' support; the environmental impact of the Expo; and plans for the communication and promotion of the Expo. Additional information regarding the BIE is available at https://www.bie-paris.org/site/en/.

Under the BIE's rules, the U.S. Government must submit an application to the BIE for any Expo proposed to be held in the United States, even if the U.S. Government is not the organizer of that Expo. Before the U.S. Government may submit an application to the BIE, it first must recognize the Expo in accordance with 22 U.S.C. Chapter 40 and 15 CFR part 310.

Organizers of an Expo proposed to be held in the United States may include cities, municipalities, non-profit organizations, chambers of commerce, and other entities. The organizer of an Expo must submit an application for Federal recognition to the Secretary of Commerce. Applications for Federal recognition of an Expo must comply with, and include all exhibits as detailed in, 15 CFR 310.3. These exhibits include, among others, an Expo plan that sets forth the theme of the Expo, the preliminary architectural and design plans, and the proposed BIE category of the Expo; documentary evidence of State, regional, and local support; a study conducted by a nationally recognized firm that details certain financial information for the Expo; and a statement setting forth the public relations, publicity and other promotional plans for the Expo.

The process for being selected by the BIE is a competitive process with countries campaigning for votes well in advance of the official application date of January 1, 2021. It is expected that campaigning will start in earnest at the World's Expo 2020 to be held in Dubai from October 20, 2020, to April 10, 2021. To help increase the likelihood of a U.S. site being selected, the Department of Commerce encourages potential bidders to submit completed bids as soon as possible, ideally by October 1, 2019, and be prepared to compete vigorously starting in Spring 2020. The Secretary of Commerce will consider all applications seeking federal recognition of, and federal participation in, an Expo proposed to be held in the United States until the President grants federal recognition to an Expo for the same time period. At that time, the Secretary will cease consideration of any Expo proposed to be held in the United States during the same time period.

If an Expo is recognized by the U.S. Government, the President may, among other measures, present an official request by the United States to the BIE for registration of the Expo by the BIE; fulfill the requirements of the Convention; and extend invitations to the states and to foreign governments to take part in the Expo. Organizers of a proposed Expo should understand that, under the BIE's rules, if the U.S. Government recognizes a candidacy for 2030 World Expo or a 2027/2028 Specialized Expo to be held in the United States, and the BIE subsequently selects the U.S. Government's application for that Expo, the U.S. Government will be unable to support any other Expo, regardless of its type, that is proposed to be held in the United States within the 15-year period following the Expo selected by the BIE.

In addition to applying for Federal recognition of a proposed Expo, the Expo organizer may apply for Federal participation of that Expo. Applications for Federal participation of an Expo must comply with 15 CFR 310.7, including the submission of a statement that outlines the nature of the Federal participation envisioned. If the Expo organizer requests the construction of a Federal pavilion, it also must submit with its application the exhibits detailed in 15 CFR 310.7, including a survey drawing of the proposed Federal pavilion site. The President may submit to Congress a proposal for Federal participation in an Expo only after the U.S. Government has recognized that Expo and after the BIE has registered that Expo. Expo organizers are encouraged to apply for Federal participation in an Expo at the same time that they apply for Federal recognition of that Expo, but may apply for Federal participation after the Expo has been recognized by the U.S. Government or after the Expo has been registered by the BIE.

Applications for Federal recognition of, or Federal participation in, an Expo proposed to be held in the United States will be reviewed in accordance with the procedures set forth in 22 U.S.C. Chapter 40 and 15 CFR part 310.

Dated: February 21, 2019.
Pat Kirwan,
Director, Trade Promotion Coordinating Committee.

[FR Doc. 2019-05779 Filed 3-26-19; 8:45 am]

BILLING CODE 3510-25-P